DEPARTMENT OF HEALTH AND HUMAN SERVICES

Centers for Disease Control and Prevention

[30DAY-18-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

Supplement to HIV/AIDS Surveillance (SHAS) Project, OMB No. 0920-0262—Extension—National Center for HIV/STD and Tuberculosis Prevention, Centers for Disease Control and Prevention (CDC) is proposing to extend the currently approved questionnaire for the Supplement to HIV/AIDS Surveillance (SHAS) project. This questionnaire provides detailed information about persons with HIV infection which continues to be of significant interest to public health, community, minority groups and affected groups.

Since 1989, the CDC, in collaboration with 12 State and local health agencies, has collected data through the national Supplemental HIV/AIDS Surveillance project. The objective of this project is to obtain increased descriptive information on persons with newly reported HIV and AIDS infections, including sociodemographic characteristics, risk behaviors, use of health care services, sexual and substance abuse behaviors, minority issues and adherence to therapy. The revised questionnaire will address important emerging surveillance and prevention issues, particularly those related to the recent advances in therapy for HIV infection. This information supplements routine national HIV/AIDS surveillance and is used to improve CDC's understanding of minority issues related to the epidemic of HIV, target educational efforts to prevent transmission, and improve services for persons with HIV infection. The total annual burden hours are 3,625.

Respondents | Number of respondents | Number of responses per respondent | Average burden per response (In hours) | Total burden hours
Arizona | 250 | 1 | 1 | 250
California | 400 | 1 | 1 | 400
Colorado | 150 | 1 | 1 | 150
Connecticut | 250 | 1 | 1 | 250
Delaware | 250 | 1 | 1 | 250
Florida | 400 | 1 | 1 | 400
Georgia | 350 | 1 | 1 | 350
Kansas | 125 | 1 | 1 | 125
Maryland | 150 | 1 | 1 | 150
Michigan | 200 | 1 | 1 | 200
Minnesota | 150 | 1 | 1 | 150
New Jersey | 250 | 1 | 1 | 250
New Mexico | 100 | 1 | 1 | 100
S. Carolina | 250 | 1 | 1 | 250
Texas | 200 | 1 | 1 | 200
Washington | 150 | 1 | 1 | 150

Dated: March 2, 2001.
Charles Gollmar,
Acting Associate Director for Policy, Planning and Evaluation, Centers for Disease Control and Prevention (CDC).

[FR Doc. 01-5732 Filed 3-7-01; 8:45 am]

BILLING CODE 4163-18-P